DEPARTMENT OF DEFENSE

Department of the Army; Corps of Engineers

Notice of Intent To Prepare a Draft Environmental Impact Statement for an Environmental Dredging Project on the Mahoning River in Ohio

AGENCY: Department of the Army, U.S. Army Corps of Engineers, DoD.

ACTION: Notice of intent to prepare an Environmental Impact Statement.

SUMMARY: This notice advises the public that pursuant to the National Environmental Policy Act (NEPA) of 1969, as amended, the Pittsburgh District (District), U.S. Army Corps of Engineers, intends to develop a Draft Environmental Impact Statement (EIS).

The Draft EIS will consider Federal actions associated with the District's proposal to restore the aquatic ecosystem of the lower Mahoning River in Ohio through (1) Dredging contaminated sediments lining the river; (2) bioremediating sediments in the bank and river where applicable; (3) capping contaminants in the bank; and (4) removing low-head dams along the river; or a combination of all four actions. The lower Mahoning River's ecosystem has been severely impacted by contamination from industries that once lined the valley and by several low-head dams that disrupt the river's natural hydrology. The proposed project will improve the lower Mahoning River's ecosystem to a level found at a model reach located just upstream of the project area.

ADDRESSES: Submit questions or comments regarding the environmental dredging project to Mr. Curtis N. Meeder, Chief, Planning and Environmental Branch, U.S. Army Corps of Engineers, Mahoning Environmental Dredging Project, 1000 Liberty Ave., Pittsburgh, PA 15222-4186, telephone (412) 395-7228 or e-mail: lrp.mahdredge@usace.army.mil.

FOR FURTHER INFORMATION CONTACT: Questions or comments regarding this notice can be directed to Mr. Larry Moskovitz, U.S. Army Corps of Engineers, 1000 Liberty Avenue, Pittsburgh, PA 15222-4186, Telephone: (412) 395-7205, e-mail: lrp.mahdredge@usace.army.mil.

SUPPLEMENTARY INFORMATION: The District is evaluating alternative strategies to restore, through environmental dredging, 31 miles of the lower Mahoning River that extends from Warren, Ohio to the Pennsylvania-Ohio state line. Through this project reach, the Mahoning River is considered a navigable waterway of the United States. The river sediment was contaminated from the heavy industrial use of the Mahoning River Valley through the early and mid 20th Century. Low head dams were constructed at that time to assure water supplies needed by industry. These dams have significantly altered the natural riverine habitat, and sediments in the river's bottom and banks were contaminated by decades of unregulated industrial waste disposal. The sediment contamination has severely impacted the aquatic life in this river and has led the Ohio Department of Health to issue two advisories against recreation on the Mahoning River from Warren, Ohio to the Pennsylvania state line, one limiting fish consumption due to elevated levels of mercury and polychlorinated biphenols (PCBs) and another advising against coming in contact with sediments due to elevated levels of polyaromatic hydrocarbons (PAHs). At the end of the 20th Century, many of the industrial facilities along the Mahoning River closed down, and the remaining companies improved their wastewater treatment facilities resulting in a marked improvement in river water quality. Despite this improvement, recent studies of the lower Mahoning River's ecosystem [including the Ohio Environmental Protection Agency (OEPA's) 1994 Water Quality Study] suggest that the ecology of the Mahoning River will not be restored unless the contaminated sediments are removed, remediated, or capped and some or all of the dams are removed.

The project is being undertaken pursuant to the authority of Section 312 of the Water Resources Development Act (WRDA) of 1990 (Pub. L. 101-640), as amended by Section 205 of the WRDA of 1996 (Pub. L. 104-303) and Section 224 of the WRDA of 1999 (Pub. L. 106-53). Section 312 provides for the removal (dredging) of contaminated sediments within navigable waters for the purpose of ecosystem restoration and specifically identifies the Mahoning River in Ohio and Pennsylvania, due to the severity of contamination, as one of five rivers in the nation given top priority for removal and remediation of contaminated sediments. The District will prepare a Draft Environmental Impact Statement assessing the environmental impacts of the recommended and alternative plans.

Proposed Action: The Mahoning Environmental Dredging Project is designed to restore the ecosystem of the Mahoning River by removing contaminated sediment and low-head dams throughout a 31-mile stretch of the river (from Warren, Ohio to the Ohio-Pennsylvania border).

The Proposed Action involves removing contaminated sediments from the river utilizing mechanical or hydraulic dredging techniques and disposing of the material in an approved manner. Contaminated sediment located in the banks may be treated through hydraulic dredging, bioremediation, capping, or a combination of these three actions. Low-head dams that are no longer being used for water supply will be considered for removal.

Reasonable Alternatives: The District will evaluate a Future Without Project (No Action) Alternative and Future With Project Alternatives. The exact nature and extent of the alternatives will be determined as part of the preparation of the Draft EIS. To facilitate scoping of the environmental effects of the project, the public may initially base comments upon a combination of possible actions that result in the removal of contaminated sediments from the riverbed and riverbank and the removal of unused low-head dams.

The primary issues to be analyzed in depth during the NEPA process will be the environmental impacts of proposed actions on the Mahoning River and cumulative impacts of this proposed Federal action in conjunction with reasonably foreseeable future actions by others. The analysis will include impacts to biological resources, cultural resources, socioeconomic resources, air quality, noise, and recreation.

In addition to the public notice, a notice will be mailed to each address on the Mahoning Environmental Dredging mailing list. Coordination throughout the project will be maintained with the appropriate local, state, and Federal agencies. Interested parties are encouraged to provide written comments relevant to issues to be addressed in the Draft EIS. The District requests that comments or requests for information be directed to the following study contact: Mr. Curtis N. Meeder, Chief, Planning and Environmental Branch (see ADDRESSES above).

Curtis N. Meeder,
Chief, Planning and Environmental.

[FR Doc. 05-2265 Filed 2-4-05; 8:45 am]

BILLING CODE 3710-92-P